DEPARTMENT OF DEFENSE

Office of the Secretary

[Transmittal No. 15-13]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 15-13 with attached Policy Justification and Sensitivity of Technology.

Dated: June 18, 2015.
Aaron Siegel,
Alternate OSD Federal Register Liaison Officer, Department of Defense.

Transmittal No. 15-13

Notice of Proposed Issuance of Letter of Offer Pursuant to Section 36(b)(1) of the Arms Export Control Act, as amended

(i) Prospective Purchaser: Lebanon

(ii) Total Estimated Value:

Major Defense Equipment * | $224 million
Other | $238 million
Total | $462 million

(iii) Description and Quantity or Quantities of Articles or Services under Consideration for Purchase: Six (6) A-29 Super Tucano aircraft, eight (8) PT6A-68A Turboprop engines (6 installed and 2 spares), eight (8) ALE-47 Countermeasure Dispensing Systems, two thousand (2000) Advanced Precision Kill Weapon Systems, eight (8) AN/AAR-60(V)2 Missile Launch Detection Systems, non-SAASM Embedded Global Positioning System/Initial Navigation System (EGIs), spare and repair parts, flight testing, maintenance support, support equipment, publications and technical documentation, ferry support, personnel training and training equipment, U.S. Government and contractor engineering and logistics support services, and other related elements of logistics support.

(iv) Military Department: Air Force (SAF)

(v) Prior Related Cases, if any: FMS case WFB-$18M-12Nov14

(vi) Sales Commission, Fee, etc., Paid, Offered, or Agreed to be Paid: none

(vii) Sensitivity of Technology Contained in the Defense Article or Defense Services Proposed to be Sold: See Attached Annex.

(viii) Date Report Delivered to Congress: 05 JUNE 2015

* as defined in Section 47(6) of the Arms Export Control Act.

POLICY JUSTIFICATION

Lebanon—A-29 Super Tucano Aircraft

The Government of Lebanon has requested a possible sale of six (6) A-29 Super Tucano aircraft, eight (8) PT6A-68A Turboprop engines (6 installed and 2 spares), eight (8) ALE-47 Countermeasure Dispensing Systems, two thousand (2000) Advanced Precision Kill Weapon Systems, eight (8) AN/AAR-60(V)2 Missile Launch Detection Systems, non-SAASM Embedded Global Positioning System/Initial Navigation System (EGIs), spare and repair parts, flight testing, maintenance support, support equipment, publications and technical documentation, ferry support, personnel training and training equipment, U.S. Government and contractor engineering and logistics support services, and other related elements of logistics support. The estimated cost is $462 million.

This proposed sale serves U.S. national, economic, and security interests by providing Lebanon with airborne capabilities needed to maintain internal security, enforce United Nation's Security Council Resolutions 1559 and 1701, and counter terrorist threats.

The proposed sale of these aircraft will provide Lebanon with a much needed Close Air Support (CAS) platform to meet present and future challenges posed by internal and border security threats. Lebanon should have no difficulty absorbing these additional aircraft into its armed forces.

The proposed sale of this equipment and support will not alter the basic military balance in the region.

The principal contractors will be:

Sierra Nevada Corporation Centennial, Colorado

BAE Systems Nashua, New Hampshire

Pratt & Whitney East Hartford, Connecticut

Terma North America Arlington, Virginia

L-3COM Systems West Salt Lake City, Utah

There are no known offset agreements proposed in connection with this potential sale.

Implementation of this proposed sale will not require any additional U.S. Government or U.S. contractor personnel in Lebanon. However, periodic travel will be required on a temporary basis for program reviews and technical support.

There will be no adverse impact on U.S. defense readiness as a result of this proposed sale.

Transmittal No. 15-13

Notice of Proposed Issuance of Letter of Offer Pursuant to Section 36(b)(1) of the Arms Export Control Act

Annex

Item No. vii

(vii) Sensitivity of Technology:

1. The A-29 is a light attack aircraft which will provide Close Air Support (CAS), Intelligence Surveillance Reconnaissance (ISR), Counter Terrorism/Counter Insurgency (CT/COIN), and Border Security to the Lebanese Air Force. It is equipped with an integrated MX-15 Electro-Optical Infrared (EO/IR) Laser sensor suite, which gives day/night Intelligence Surveillance Reconnaissance (ISR) capability and includes a laser illuminator/range finder/designator to allow employment of the AGM-114 Hellfire missile and GBU-12/58 Laser Guided Bomb (LGB). The aircraft has six external hard points for weapons and fuel carriage. The Lebanon variant will be capable of carrying:

—AGM-114M3, N3, & R5 missiles, classified as Secret

—External fuel tanks, classified as Unclassified

—2.75″ rockets (MK4, MK40, MK 66, Hydra 70), classified as Unclassified

—GBU-12, classified as Confidential

—GBU-58, classified at Confidential

—Advanced Precision Kill Weapon System, classified as Secret

—HMP-400 .50 caliber gun pods, classified as Unclassified

The ISR package is compatible with the current Lebanese ISR assets. Critical cockpit, fuel system and engine components will have aircraft armor able to withstand small arms fire. Technical data and documentation to be provided are Unclassified.

2. The MX-15 EO/IR sensor is a gyro-stabilized, multi-spectral, multi field of view EO/IR system. The system provides ISR capability and laser designation via an externally mounted turret sensor. Sensor video imagery is displayed in the aircraft real time and may be recorded for subsequent ground analysis. The hardware and technical data and documentation to be provided is Unclassified.

3. The AN/ALE-47 Counter-Measures Dispensing System (CMDS) is an integrated, threat-adaptive, software-programmable dispensing system capable of dispensing chaff and flares. The threats countered by the CMDS include radar-directed anti-aircraft artillery (AAA), radar command-guided missiles, radar homing-guided missiles, and infrared (IR) guided missiles. The system is internally mounted and may be operated as a stand-alone system. The AN/ALE-47 uses threat data received over the aircraft interfaces to assess the threat situation and to determine a response. The hardware and technical data and documentation to be provided is Unclassified.

4. The AN/AAR-60 Missile Warning System is an electronic warfare system designed to protect aircraft against infrared-guided (IR) missile threats, laser-guided/laser-aided threats, and unguided munitions. Upon detection of the threat, the system will provide an audio and visual sector warning to the pilot. For IR missile threats, the system automatically initiates countermeasures by sending a command signal to the countermeasures dispensing unit. The AAR-60 is Unclassified.

5. The APKWS II All-Up-Round (AUR) is an air to ground weapon that consists of an APKWS II Guidance Section (GS), Legacy 2.75 inch MK 66 Mod 4 Rocket Motor and legacy MK 152 and MK455/436 warhead/fuze. The APKWS II GS is installed between the rocket motor and warhead and provides a Semi-Active Laser (SAL) precision capability to the legacy unguided 2.75″ rocket. The APKWS II guidance section is procured as an individual component and mated with the rocket motor and warhead/fuze to create an AUR. Hardware is Unclassified; information related to performance, effectiveness, vulnerabilities and counter-measure is classified up to Secret.

6. If a technologically advanced adversary were to obtain knowledge of the specific hardware and software elements, the information could be used to develop countermeasures which might reduce weapon system effectiveness or be used in the development of a system with similar or advanced capabilities.

7. A determination has been made that the recipient country can provide the same degree of protection for the sensitive technology being released as the U.S. Government. This sale is necessary in furtherance of the U.S. foreign policy and national security objectives outlined in the Policy Justification.

8. All defense articles and services listed in this transmittal have been authorized for release and export to Lebanon.

[FR Doc. 2015-15367 Filed 6-22-15; 8:45 am]

BILLING CODE 5001-06-P